DEPARTMENT OF DEFENSE

Department of the Army

[Docket ID: USA-2208-0022]

Privacy Act of 1974; System of Records

AGENCY: Department of the Army, DoD.

ACTION: Notice to Alter a System of Records.

SUMMARY: The Department of the Army is proposing to alter a system of records in its existing inventory of records systems subject to the Privacy Act of 1974, (5 U.S.C. 552a), as amended.

DATES: The proposed action will be effective on August 18, 2008, unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The proposed system report, as required by 5 U.S.C. 552a(r) of the Privacy Act of 1974, as amended, was submitted on July 9, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 11, 2008.
Patricia L. Toppings,
OSD Federal Register Liaison Officer, Department of Defense.

A0600-85 DAPE

System name:

Army Substance Abuse Program (May 9, 2003, 68 FR 24954).

Changes:

* * * * *

Categories of individuals covered by the system:

Delete entry and replace with “Active Army, Army National Guard, U.S. Army Reserve and family members, Army civilian employees, and military retirees who are screened and/or enrolled in the Army Substance Abuse Program.”

Categories of records in the system:

Delete entry and replace with “Copies of patient intake records, progress reports, psychosocial histories, counselor observations and impressions of patient's behavior and rehabilitation progress; copies of medical consultation and laboratory procedures performed, results of biochemical urinalysis for alcohol/drug abuse, Patient Intake/Screening record—PIR; Patient Progress Report—PPR; Resource and Performance Report; and Specimen Custody Document—Drug Testing; electronic copies of Patient Intake/Screening record—PIR; Patient Progress Report—PPR; Resource and Performance Report; and Specimen Custody Document—Drug Testing High Risk behavior statistics, training materials, substance abuse information, user access information, survey data, demographic composites of the data elements and similar or related documents.”

* * * * *

Purpose(s):

Delete entry and replace with “To identify alcohol and drug abusers within the Army; to treat, counsel, and rehabilitate individuals who participate in the Army Substance Abuse Program; as a management tool to identify trends, judge the magnitude of drug and alcohol abuse, and to measure the effectiveness of drug and alcohol prevention efforts in the Army.”

Routine uses of records maintained in the system, including categories of users and the purposes of such uses:

Delete fifth paragraph and replace with “To medical personnel to the extent necessary to meet a bona fide medical emergency or to assess and provide necessary substance abuse treatment.”

Add the following uses: “For validated background checks of individuals requesting security clearances with appropriate releases from the individual.”

Storage:

Delete entry and replace with “Paper records in locked metal containers and electronic storage media.”

Retrievability:

Delete entry and replace with “By patient's surname, Social Security Number (SSN) or other individually identifying characteristic.”

Safeguards:

Delete entry and replace with “Paper records are maintained in locked file cabinets in a restricted access area. Information is accessible only by authorized personnel with appropriate clearance/access in the performance of their duties. Electronic records are stored in a secured accredited database with firewalls and other security measures. All SSN data is encrypted and no names are available. The database hardware is stored in a secured room with limited access.”

Retention and disposal:

Delete entry and replace with “Permanent. Keep in current files area until no longer needed for conducting business, then retire to Records Holding Area/Army Electronic Archives (RHA/AEA). The RHA/AEA will transfer to the National Archives when record is 20 years old.”

System manager(s) and address:

Delete entry and replace with “Deputy Chief of Staff, G-1, Headquarters, Department of the Army, 300 Army Pentagon, Washington, DC 20320-3000.”

Notification procedure:

Add sentence at the end of second paragraph “If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Denial to amend records in this system can be made only by the Deputy Chief of Staff, G-1.”

Record access procedures:

Add sentence at the end of second paragraph “If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Denial to amend records in this system can be made only by the Deputy Chief of Staff, G-1.”

* * * * *

A0600-85 DAPE

System name:

Army Substance Abuse Program.

System location:

Primary location: Army Substance Abuse Program (ASAP) rehabilitation/counseling facilities (e.g., Community Counseling Center/ASAP Counseling Facilities) at Army installations and activities. Official mailing addresses are published as an appendix to the Army's compilation of record system notices.

Secondary location:

Army Center for Substance Abuse Program, 4501 Ford Avenue, Suite 320, Alexandra, VA 22302-1460.

Categories of individuals covered by the system:

Active Army, Army National Guard, U.S. Army Reserve and family members, Army civilian employees, and military retirees who are screened and/or enrolled in the Army Substance Abuse Program.

Categories of records in the system:

Copies of patient intake records, progress reports, psychosocial histories, counselor observations and impressions of patient's behavior and rehabilitation progress; copies of medical consultation and laboratory procedures performed, results of biochemical urinalysis for alcohol/drug abuse, Patient Intake/Screening record—PIR; Patient Progress Report—PPR; Resource and Performance Report; and Specimen Custody Document—Drug Testing. Electronic Copies of Patient Intake/Screening record—PIR; Patient Progress Report—PPR; Resource and Performance Report; and Specimen Custody Document—Drug Testing High Risk behavior statistics, training materials, substance abuse information, user access information, survey data, demographic composites of the data elements and similar or related documents.

Authority for maintenance of the system:

10 U.S.C. 3013, Secretary of the Army; 42 U.S.C. 290dd-2; Federal Drug Free Workplace Act of 1988; Army Regulation 600-85, Army Substance Abuse Program; and E.O. 9397 (SSN).

Purpose(s):

To identify alcohol and drug abusers within the Army; to treat, counsel, and rehabilitate individuals who participate in the Army Substance Abuse Program; as a management tool to identify trends, judge the magnitude of drug and alcohol abuse, and to measure the effectiveness of drug and alcohol prevention efforts in the Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The Patient Administration Division at the medical treatment facility with jurisdiction is responsible for the release of medical information to malpractice insurers in the event of malpractice litigation or prospect thereof.

Information is disclosed only to the following persons/agencies:

To health care components of the Department of Veterans Affairs furnishing health care to veterans.

To medical personnel to the extent necessary to meet a bona fide medical emergency or to assess and provide necessary substance abuse treatment.

For validated background checks of individuals requesting security clearances with appropriate releases from the individual.

To qualified personnel conducting scientific research, audits, or program evaluations, provided that a patient may not be identified in such reports, or his or her identity further disclosed by such personnel.

In response to a court order based on the showing of good cause in which the need for disclosure and the public's interest is shown to exceed the potential harm that would be incurred by the patient, the physician-patient relationship, and the Army's treatment program. Except as authorized by a court order, no record may be used to initiate or substantiate any criminal charges against a patient or to conduct any investigation of a patient.

Note: Records of identity, diagnosis, prognosis, or treatment of any client/patient, irrespective of whether or when he/she ceases to be a client/patient, maintained in connection with the performance of any alcohol or drug abuse prevention and treatment function conducted, requested, or directly or indirectly assisted by any department or agency of the United States, shall, except as provided therein, be confidential and be disclosed only for the purposes and under circumstances expressly authorized in 42 U.S.C. 290dd-2. This statute takes precedence over the Privacy Act of 1974 to the extent that disclosure is more limited. However, access to the record by the individual to whom the record pertains is governed by the Privacy Act. The DoD `Blanket Routine Uses' set forth at the beginning of the Army's compilation of systems of records notices do not apply to this information.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in locked metal containers and electronic storage media.

Retrievability:

By patient's surname, Social Security Number (SSN) or other individually identifying characteristic.

Safeguards:

Paper records are maintained in locked file cabinets in a restricted access area. Information is accessible only by authorized personnel with appropriate clearance/access in the performance of their duties. Electronic records are stored in a secured accredited database with firewalls and other security measures. All SSN data is encrypted and no names are available. The database hardware is stored in a secured room with limited access.

Retention and disposal:

Permanent. Keep in current files area until no longer needed for conducting business, then retire to Records Holding Area/Army Electronic Archives (RHA/AEA). The RHA/AEA will transfer to the National Archives when record is 20 years old.

System manager(s) and address:

Deputy Chief of Staff, G-1, Headquarters, Department of the Army, 300 Army Pentagon, Washington, DC 20320-3000.

Notification procedure:

Individuals seeking to determine if information about themselves is contained in this record system should address written inquiries to either the commander of the medical center/medical department activity where treatment was obtained or the Army Center for Substance Abuse Programs, 4501 Ford Avenue, Suite 320, Alexandria, VA 22302-1460. Official mailing addresses are published as an appendix to the Army's compilation of record system notices.

Individual should provide the full name, Social Security Number (SSN), date of birth, current address, telephone number, and signature.

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Note: Denial to amend records in this system can be made only by the Deputy Chief of Staff, G-1.

Record access procedures:

Individuals seeking access to records about themselves contained in this record system should address written inquiries to either the commander of the medical center/medical department activity where treatment was obtained or the Army Center for Substance Abuse Programs, 4501 Ford Avenue, Suite 320, Alexandria, VA 22302-1460. Official mailing addresses are published as an appendix to the Army's compilation of record system notices.

Individual should provide the full name, Social Security Number, date of birth, current address and telephone number, and signature.

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Note: Denial to amend records in this system can be made only by the Deputy Chief of Staff G-1.

Contesting record procedures:

The Army's rules for accessing records, and for contesting contents and appealing initial agency determinations are contained in Army Regulation 340-21; 32 CFR part 505; or may be obtained from the system manager.

Record source categories:

From the individual by interviews and history statement; abstracts or copies of pertinent medical records; abstracts from personnel records; results of tests; physicians' notes, observations of client's behavior; related notes, papers, and forms from counselor, clinical director, and/or commander.

Exemptions claimed for the system:

None.

[FR Doc. E8-16415 Filed 7-17-08; 8:45 am]

BILLING CODE 5001-06-P